DEPARTMENT OF HEALTH AND HUMAN SERVICES

National Institutes of Health

National Center for Research Resources; Notice of Meetings

Pursuant to section 10(d) of the Federal Advisory Committee Act, as amended (5 U.S.C. Appendix 2), notice is hereby given of the following meetings.

The meetings will be open to the public as indicated below, with attendance limited to space available. Individuals who plan to attend and need special assistance, such as sign language interpretation or other reasonable accommodations, should notify the Contact Person listed below in advance of the meeting.

The meetings will be closed to the public in accordance with the provisions set forth in sections 552b(c)(4) and 552b(c)(6), Title 5 U.S.C., as amended. The grant applications and the discussions could disclose confidential trade secrets or commercial property such as patentable material, and personal information concerning individuals associated with the grant applications, the disclosure of which would constitute a clearly unwarranted invasion of personal privacy.

Name of Committee: National Center for Research Resources Initial Review Group Comparative Medicine Review Committee.

Date: October 5-6, 2004.

Open: October 5, 2004, 8 a.m. to 8:30 a.m.

Agenda: To discuss program planning and other issues.

Place: Four Points By Sheraton, 8400 Wisconsin Avenue, Bethesda, MD 20814.

Closed: October 5, 2004, 8:30 a.m. to Adjournment.

Agenda: To review and evaluate grant applications.

Place: Four Points By Sheraton, 8400 Wisconsin Avenue, Bethesda, MD 20814.

Contact Person: Guo Zhang, PhD, Scientific Review Administrator, Office of Review, National Center for Research Resources, National Institutes of Health, One Democracy Plaza, 6701 Democracy Blvd., Room WS-1064, 10th Floor, Bethesda, MD 20814-9692, (301) 435-0812, zhanggu@mail.nih.gov.

Name of Committee: National Center for Research Resources Initial Review Group Clinical Research Review Committee.

Date: October 6-7, 2004.

Open: October 6, 2004, 8 a.m. to 9 a.m.

Agenda: To discuss program planning and other issues.

Place: Holiday Inn Bethesda, 8120 Wisconsin Avenue, Bethesda, MD 20814.

Closed: October 6, 2004, 9 a.m. to Adjournment.

Agenda: To review and evaluate grant applications.

Place: Holiday Inn Bethesda, 8120 Wisconsin Avenue, Bethesda, MD 20814.

Contact Person: Mohan Viswanathan, PhD, Deputy Director, National Center for Research Resources, or, National Institutes of Health, 6701 Democracy Blvd., Room 1084, MSC 4874, 1 Democracy Plaza, Bethesda, MD 20892-4874, (301) 435-0829, mv10f@nih.gov.

Name of Commitee: Scientific and Technical Review Board on Biomedical and Behavioral Research Facilities.

Date: October 13-15, 2004.

Open: October 13, 2004, 8 a.m. to 9 a.m.

Agenda: To discuss program planning and other issues.

Place: Double Tree Rockville Hotel, 1750 Rockville Pike, Rockville, MD 20814.

Closed: October 13, 2004, 9 a.m. to Adjournment.

Agenda: To reveiw and evaluate grant applications.

Place: Double Tree Rockville Hotel, 1750 Rockville Pike, Rockville, MD 20814.

Contact Person: Barbara J. Nelson, PhD, Scientific Review Administrator, Office of Review, National Center for Research Resources, NIH, 6701 Democracy Blvd., Room 1080, 1 Democracy Plaza, Bethesda, MD 20892, (301) 435-0806.

(Catalogue of Federal Domestic Assistance Program Nos. 93.306, Comparative Medicine; 93.333, Clinical Research; 93.371, Biomedical Technology; 93.389, Research Infrastructure, 93.306, 93.333, National Institutes of Health, HHS)
Dated: September 1, 2004.
LaVerne Y. Stringfield,
Director, Office of Federal Advisory Committee Policy

[FR Doc. 04-20447 Filed 9-8-04; 8:45 am]

BILLING CODE 4140-01-M